DEPARTMENT OF COMMERCE

National Oceanic and Atmospheric Administration

Establishing an Advisory Council Pursuant to the National Marine Sanctuaries Act and Solicitation for Applications for the Mallows Bay-Potomac River National Marine Sanctuary Advisory Council

AGENCY: Office of National Marine Sanctuaries (ONMS), National Ocean Service (NOS), National Oceanic and Atmospheric Administration (NOAA), Department of Commerce (DOC).

ACTION: Notice of solicitation.

SUMMARY: Notice is hereby given that NOAA is establishing a national marine sanctuary advisory council for the Mallows Bay-Potomac River National Marine Sanctuary (MPNMS) which was designated on September 3, 2019. The council will provide advice and recommendations to ONMS regarding the sanctuary management plan and will serve as liaisons between the sanctuary and constituents and community groups. ONMS is adding this council to the list of established national marine sanctuary advisory councils. ONMS solicits applications to fill council seats on an as needed basis and is now seeking applicants for seats on the MPNMS Sanctuary Advisory Council. This notice contains web page links and contact information for the ONMS and application materials to apply for the advisory council.

DATES: Applications for membership on the Mallows Bay-Potomac River Sanctuary Advisory Council need to be received by July 1, 2020.

ADDRESSES: For further information contact: Sammy (Paul) Orlando c/o NOAA Office of National Marine Sanctuaries, c/o NOAA Chesapeake Bay Office, 200 Harry S Truman Parkway, Room 460, Annapolis, MD 21401, or call 240-460-1978, email paul.orlando@noaa.gov, or fax 302-200-7182.

SUPPLEMENTARY INFORMATION:

I. Background

Section 315 of the National Marine Sanctuaries Act (NMSA) (16 U.S.C. 1445a) authorizes the Secretary of Commerce to establish advisory councils to advise and make recommendations regarding the designation and management of national marine sanctuaries. ONMS is establishing a new sanctuary advisory council for the MPNMS to serve as a liaison with the local community and to provide guidance and advice to ONMS regarding the sanctuary management plan. Through this notice, ONMS is establishing the advisory council for the MPNMS and soliciting applications for all seats. Applications are due July 1, 2020.

II. Office of National Marine Sanctuaries (ONMS)

ONMS serves as the trustee for a network of underwater parks encompassing more than 600,000 square miles of marine and Great Lakes waters from Washington State to the Florida Keys, and from Lake Huron to American Samoa. The network includes a system of 14 national marine sanctuaries and the Papahānaumokuākea and Rose Atoll marine national monuments. National marine sanctuaries protect our nation's most vital coastal and marine natural and cultural resources, and through active research, management, and public engagement, sustain healthy environments that are the foundation for thriving communities and stable economies.

One of the many ways ONMS ensures public participation in the designation and management of national marine sanctuaries is through the formation of advisory councils. Advisory councils are community-based groups established to provide advice and recommendations to ONMS on issues including management, science, service, and stewardship, as well as to serve as liaisons between their constituents in the community and the site. Pursuant to Section 315(a) of the NMSA, advisory councils are exempt from the requirements of the Federal Advisory Committee Act. Additional information on ONMS and its advisory councils can be found at http://sanctuaries.noaa.gov.

III. Advisory Council Membership

According to section 315 of the NMSA, advisory council members may be appointed from among: (1) Persons employed by federal or state agencies with expertise in natural resources management; (2) members of relevant regional fishery management councils; and (3) representatives of local user groups, conservation and other public interest organizations, scientific organizations, educational organizations, or others interested in the protection and multiple use management of sanctuary resources (16 U.S.C. 1455 a(b)).

The charter for each advisory council defines the number and type of seats and positions on the council. The advisory council charter for the MPNMS identifies the following non-governmental voting seat types: Maritime archaeology and history; cultural heritage; recreation; recreational fishing; business and economic development; tourism and marketing; education; research, science and technology; commercial fishing; and citizen-at-large. Additionally, the council will also have non-voting seats for: (1) NOAA; (2) the State of Maryland, Department of Planning; (3) Maryland Department of Natural Resources; (4) Charles County, Maryland; (5) several other government agencies with installations adjacent to the sanctuary boundaries (including Department of Navy/Department of Defense, U.S. Coast Guard, State of Virginia); (6) three state-recognized Tribes: Piscataway Conoy Tribe (MD), Piscataway Indian Tribe (MD), and Patawomeck Indian Tribe of Virginia (VA); and (7) youth (ages 14-17 at the time of application).

For each of the existing advisory councils, applicants are chosen based upon their particular expertise and experience in relation to the seat for which they are applying; community and professional affiliations; views regarding the protection and management of marine or Great Lakes resources; and possibly (though not required) the length of residence in the area affected by the site. Council members and alternates for the MPNMS Sanctuary Advisory Council serve three-year terms, as reflected in the signed charter.

More information on advisory council membership and processes, and materials related to the purpose, policies, and operational requirements for advisory councils can be found in the charter for a particular advisory council (https://sanctuaries.noaa.gov/management/ac/council_charters.html) and the National Marine Sanctuary Advisory Council Implementation Handbook (https://nmssanctuaries.blob.core.windows.net/sanctuaries-prod/media/archive/management/pdfs/2010-ac-handbook-appendices-07162015.pdf). For more information about the new advisory council for the Mallows Bay-Potomac River National Marine Sanctuary, including seat descriptions and application materials, please visit https://sanctuaries.noaa.gov/mallows-potomac.

B. Paperwork Reduction Act

ONMS has a valid Office of Management and Budget (OMB) control number (0648-0397) for the collection of public information related to the processing of ONMS national marine sanctuary advisory council applications across the National Marine Sanctuary System. Establishing a sanctuary advisory council for the MPNMS fits within the estimated reporting burden under that control number. See https://www.reginfo.gov/public/do/PRASearch (Enter Control Number 0648-0397). Therefore, ONMS will not request an update to the reporting burden certified for OMB control number 0648-0397.

Send comments regarding this burden estimate, or any other aspect of this data collection, including suggestions for reducing the burden, to: Office of National Marine Sanctuaries, 1305 East West Highway, N/NMS, Silver Spring, Maryland 20910.

Notwithstanding any other provisions of the law, no person is required to respond to, nor shall any person be subject to a penalty for failure to comply with a collection of information subject to the requirements of the Paperwork Reduction Act (PRA), 44 U.S.C. 3501 et seq., unless that collection of information displays a currently valid Office of Management and Budget (OMB) control number. The OMB control number is #0648-0397.

John Armor,
Director, Office of National Marine Sanctuaries, National Ocean Service, National Oceanic and Atmospheric Administration.

[FR Doc. 2020-11023 Filed 5-21-20; 8:45 am]

BILLING CODE 3510-NK-P